DEPARTMENT OF HOUSING AND URBAN DEVELOPMENT

[Docket No. FR-4563-N-13]

Notice of Proposed Information Collection for Public Comment for the Public and Indian Housing Drug Elimination Technical Assistance Program (DETAP) Consultant Services—Application Kit

AGENCY: Office of the Assistant Secretary for Public and Indian Housing, HUD.

ACTION: Notice.

SUMMARY: The proposed information collection requirement described below will be submitted to the Office of Management and Budget (OMB) for review, as required by the Paperwork Reduction Act. The Department is soliciting public comments on the subject proposal.

DATES: Comments Due Date: October 16, 2000.

ADDRESSES: Interested persons are invited to submit comments regarding this proposal. Comments should refer to the proposal by name and/or OMB control number and should be sent to: Mildred M. Hamman, Reports Liaison Officer, Public and Indian Housing, Department of Housing and Urban Development, 451 7th Street, SW., Room 4238, Washington, DC 20410-5000.

FOR FURTHER INFORMATION CONTACT: Mildred M. Hamman, (202) 708-3642 extension 4128, for copies of the proposed forms and other available documents [This is not a toll-free number.]

SUPPLEMENTARY INFORMATION: The Department will submit the proposed information collection to OMB for review, as required by the Paperwork Reduction Act of 1995 [44 U.S.C. Chapter 35, as amended].

This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of response.

This Notice also list the following information:

Title of Proposal. Public and Indian Housing Drug Elimination Technical Assistance Program (DETAP) Consultant Services—Application Kit.

OMB Control Number: 2577-0133

Description of the need for the information and proposed use: The DETAP provides not more than (30) billable days of technical assistance (TA) consultant services to assist public housing agencies (PHAs), Indian tribes and Tribally Designated Housing Entities (TDHEs), Resident Management Corporations (RMCs), Incorporated Resident Councils (RCs) and Resident Organizations (ROs) to improve the administration and effectiveness of the Public Housing Drug Elimination Program (PHDEP) grants. The program also assists eligible applicants in the elimination and reduction of drug and crime-related activities in their community. Eligible applicants submit a DETAP application, including forms, assurances, descriptive letter and certifications to HUD as outlined in the SuperNOFA published in the Federal Register dated February 24, 2000. HUD will accept, review, and approve accept DETAP applications on a first-come first serve basis until funds available under this program are expended. Part 2: Skills Inventory, Form HUD-52354, Drug Elimination Technical Assistance Program, Consultant Application, is revised.

Agency form number, if applicable: HUD-52354.

Member of affected public: State, Local or Tribal Government, Not-for-profit institutions, business or other for-profit agencies.

Estimation of the total number of hours needed to prepare the information collection including number of respondents, frequency of response: 1,500 respondents, one-time application, 20 hour average per response, 30,000 total reporting burden hours.

Status of the proposed information collection: Reinstatement.

Authority: Section 3506 of the Paperwork Reduction Act of 1995, 44 U.S.C. Chapter 35, as amended.

Dated: August 11, 2000.
Harold Lucas,
Assistant Secretary for Public and Indian Housing.

BILLING CODE 4210-33-M

[FR Doc. 00-20921 Filed 8-16-00; 8:45 am]

BILLING CODE 4210-33-C